SMALL BUSINESS ADMINISTRATION

[Disaster Declaration # 12172]

Florida Disaster # FL-00056 Declaration of Economic Injury

AGENCY: U.S. Small Business Administration.

ACTION: Amendment 1.

SUMMARY: This is an amendment of an Economic Injury Disaster Loan (EIDL) declaration for the State of FLORIDA, dated 07/22/2010.

Incident: Deepwater BP Oil Spill.

Incident Period: 04/20/2010 and continuing.

DATES: Effective Date: 07/22/2010.

EIDL Loan Application Deadline Date: 02/14/2011.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of an Economic Injury declaration for the State of Florida dated 05/13/2010, is hereby amended to include the following areas as adversely affected by the disaster.

Primary Counties: Collier, Lee, Monroe.

Contiguous Counties:

Florida: Broward, Glades, Hendry, Miami-Dade.

All other information in the original declaration remains unchanged.

(Catalog of Federal Domestic Assistance Number 59002)

Dated: July 22, 2010.
Karen G. Mills,
Administrator.

[FR Doc. 2010-18741 Filed 7-29-10; 8:45 am]

BILLING CODE 8025-01-P